Title 3—

The President

Executive Order 14229 of March 4, 2025

Honoring Jocelyn Nungaray

By the authority vested in me as President by the Constitution and the laws of the United States of America, it is hereby ordered:

Section 1. Purpose and Policy. The prior administration's immigration policies inexcusably endangered and caused enormous suffering within our Nation, including by causing the southern border to be overrun by cartels, criminal gangs, known terrorists, human traffickers, smugglers, unvetted military-age males from foreign adversaries, and illicit narcotics. These open-border policies are responsible for the horrific and inexcusable murders of many innocent American citizens at the hands of illegal aliens.

One of those innocent victims was Jocelyn Nungaray, whose life was tragically cut short on June 17, 2024, when she was brutally murdered in Houston, Texas. Two Venezuelan illegal aliens who were allegedly Tren de Aragua gang members and were apprehended near the border in early 2024—and then released into the United States by the prior administration—have been charged with her murder. Jocelyn was a precious 12 year old girl beloved by her family and friends for her kindness and infectious zeal for life. She loved animals and had a passion for ensuring that they had homes. It is fitting and in the national interest, therefore, that the Anahuac National Wildlife Refuge, a scenic area for coastal wildlife and recreation along the Gulf of America near Jocelyn's home in Texas, will forever honor and preserve the memory of a beautiful American, Jocelyn Nungaray.

Sec. 2. Renaming the Anahuac National Wildlife Refuge to Honor Jocelyn Nungaray. Within 30 days of the date of this order, pursuant to authority under the National Wildlife Refuge System Administration Act (16 U.S.C. 668dd-668ee) and other applicable law, the Secretary of the Interior (Secretary) shall update procedures as necessary and take all other appropriate actions to rename the area known as the “Anahuac National Wildlife Refuge” as the “Jocelyn Nungaray National Wildlife Refuge” and ensure that her life is permanently commemorated therein. The Secretary shall subsequently provide guidance to ensure all Federal references to the Jocelyn Nungaray National Wildlife Refuge, including on agency maps, contracts, and other documents and communications, reflect its renaming.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 4, 2025.

[FR Doc. 2025-03869

Filed 3-7-25; 8:45 am]

Billing code 3395-F4-P